DEPARTMENT OF JUSTICE

Antitrust Division

Notice Pursuant to the National Cooperative Research and Production Act of 1993—Wireless Application Protocol Forum, Ltd.

Notice is hereby given that, on January 28, 2002, pursuant to section 6(a) of the National Cooperative Research and Production Act of 1993, 15 U.S.C. 4301 et seq. (“the Act”), Wireless Application Protocol Forum, Ltd. (“WAP”), has filed written notifications simultaneously with the Attorney General and the Federal Trade Commission disclosing changes in its membership status. The notifications were filed for the purpose of extending the Act's provisions limiting the recovery of antitrust plaintiffs to actual damages under specified circumstances. Specifically, Vizzavi, London, United Kingdom, has been added as a party to this venture. Novell, Inc., San Jose, CA, has acquired Cambridge Technology Partners, Inc., Cambridge, MA. Orange Communications, Lausanne, Switzerland, has acquired France Telecom, Paris, France. mm02, Slough, United Kingdom, has acquired VIAG Interkom GmbH & Co., Meunchen, Germany. Bell Mobility, Mississauga, Ontario, Canada, has changed its name to Exomi Oy. BT Cellnet, Slough, United Kingdom, has changed its name to mm02. Cable & Wireless Optus Ltd., North Sydney, New South Wales, Australia, has changed its name to Singtel Optus Ltd.

The following companies had their memberships canceled: ActiveSky Inc., San Mateo, CA; Agency.com, London, United Kingdom; Altawave Inc., Fremont, CA; Arch Wireless, Plano, TX; CellStar, Carrollton, TX; Centerpost Corporation, Chicago, IL; Cherrypicks, Hong Kong, Hong Kong-China; Cyber-COMM, Paris, France; FDTI, Lisboa, Portugal; Handsky Technology Limited, Nangjing, People's Republic of China; HelloAsia, Redwood City, CA; HiddenMind Technology, Cary, NC; Hii Co., Ltd., Taipei, Taiwan; Hotpalm.com, Atlanta, GA; Hyperwave, Graz, Austria; InDiQu, San Diego, CA; Informa Telecoms Group, London, United Kingdom; Isovia Inc., Boston, MA; LPG Innovations Ltd., Helsinki, Finland; MediaSolv.com, Inc., San Jose, CA; Microband, Inc., New York, NY; nCipher, Inc., Woburn, MA; NetSanity, Inc., Campbell, CA; ome internet communications services AG, Vienna, Austria; Pacific21 Ltd., London, United Kingdom; Palm, Inc., Santa Clara, CA; ResQNet.com, Inc., New York, NY; Societe Generale, Paris, France; SurfGold.com, Singapore, Singapore; Vicinity Corporation, Sunnyvale, CA; W-Phone, Inc., San Jose, CA; and White.Cell, Inc., Rosh-Haayin, Israel.

The following companies have resigned: Adobe Systems Inc., San Jose, CA; APAS Inc., Tokyo, Japan; Art Technology Group, Inc., Cambridge, MA; Askus AB, Stockholm, Sweden; Aspective Limited, Staines, United Kingdom; Barnes and Noble.com, New York, NY; Blue C Internet GmbH, Vienna, Austria; Civista Limited, Tolworth, United Kingdom; ClientSoft Inc., Hawthorne, NY; Columbitech AB, Stockholm, Sweden; Consafe Infotech AB, Malmo, Sweden; Dansk Data Elektronik A/S, Herlev, Denmark; Deutsche Bank AG, Eschborn, Germany; Digital Bridges Limited, Fife, Scotland, United Kingdom; Dimon Software, Reykjavik, Iceland; Edify Corporation, Santa Clara, CA; Ementor ASA, Oslo, Norway; eWare, Ltd., Dublin, Ireland; FedEx Corporation, Collierville, TN; HiQ International, Stockholm, Sweden; Infocomm Inc., Taipei, Taiwan; Intergraph Corporation, Inc., Huntsville, AL; Intershop Communications GmbH, Hamburg, Germany; KPMG Consulting, Inc., McLean, VA; Melody Interactive Solutions AB, Stockholm, Sweden; Mgage Systems AB, Stockholm, Sweden; MobileRAIN Technologies, Inc., Union City, Ca; New Media Science/Linne Group, Oslo, Norway; Nortel Networks, Richardson, TX; PhoneDo Networks Inc., Herzliya, Israel; Pivotal Corporation, North Vancouver, British Columbia, Canada; Quinary, SpA, Milan, Italy; Radio Frequency Investigation Ltd., Hants, United Kingdom; Ubiquity S.r.l., Milan, Italy; and Virtual, Inc., Taipei, Taiwan.

No other changes have been made in either the membership or planned activity of the group research project. Membership in this group research project remains open, and WAP intends to file additional written notifications disclosing all changes in membership.

On March 18, 1998, WAP filed its original notification pursuant to section 6(a) of the Act. The Department of Justice published a notice in the Federal Register pursuant to section 6(b) of the Act on December 31, 1998 (63 FR 72333).

The last notification was filed with the Department on November 20, 2001. A notice for this filing has not yet been published in the Federal Register.

Constance K. Robinson,
Director of Operations, Antitrust Division.

[FR Doc. 02-8116 Filed 4-3-02; 8:45 am]

BILLING CODE 4410-11-M